DEPARTMENT OF HOMELAND SECURITY

Agreement Between the Government of the United States of America and the Government of the Republic of Uganda for Cooperation in the Examination of Protection Requests

AGENCY: Department of Homeland Security.

ACTION: Notice of Agreement.

SUMMARY: The Department of Homeland Security is publishing the Agreement Between the Government of the United States of America and the Government of the Republic of Uganda for Cooperation in the Examination of Protection Requests, signed at Kampala on July 29, 2025 (the “Agreement”). The text of the Agreement is set out below.

Joseph N. Mazzara,
Acting General Counsel, U.S. Department of Homeland Security.

BILLING CODE 9110-9M-P

[FR Doc. 2025-16808 Filed 9-2-25; 8:45 am]

BILLING CODE 9110-9M-C